DEPARTMENT OF THE TREASURY

Submission for OMB Review; Comment Request

January 26, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before March 12, 2001.

Internal Revenue Service (IRS)

OMB Number: 1545-0007.

Form Number: Form T.

Type of Review: Extension.

Title: Forest Activities Schedule.

Description: Form T is filed by individuals and corporations to report income and deductions from the timber business. The IRS uses Form T to determine if the correct amount of income and deductions are reported.

Respondents: Individuals or households, Business or other for-profit.

Estimated Number of Respondents/Recordkeeping: 37,000.

Estimated Burden Hours Per Respondent/Recordkeepers:

Recordkeeping | 37 hr., 4 min.
Learning about the law or the form | 42 min.
Preparing and sending the form to the IRS | 1 hr., 19 min.

Frequency of Response: Annually.

Estimated Total Reporting Burden: 1 hour.

OMB Number: 1545-0429.

Form Number: IRS Form 4506.

Type of Review: Extension.

Title: Request for Copy or Transcript of Tax Form.

Description: 26 U.S.C. 7513 allows for taxpayers to request a copy of a tax return. Form 4506 is used by a taxpayer to request a copy of a Federal tax form. The information provided will be used for research to locate the tax form and to ensure that the requester is the taxpayer or someone authorized by the taxpayer.

Respondents: Individuals or households, Business.

Estimated Number of Respondents/Recordkeeping: 914,40.

Recordkeeping | 13 min.
Learning about the law or the form | 6 min.
Preparing the form | 25 min.
Copying, assembling, and sending the form to the IRS | 16 min.

Frequency of Response: On occasion.

Estimated Total Reporting/Recordkeeping Burden: 941,977 hours.

Clearance Officer: Garrick Shear, Internal Revenue Service, Room 5244, 1111 Constitution Avenue, NW, Washington, DC 20224.

OMB Reviewer: Alexander T. Hunt (202) 395-7860, Office of Management and Budget, Room 10202, New Executive Office Building, Washington, DC 20503.

Lois K. Holland,
Departmental Reports, Management Officer.

[FR Doc. 01-3265 Filed 2-7-01; 8:45 am]

BILLING CODE 4830-01-U